FEDERAL ELECTION COMMISSION

Sunshine Act Meeting

Agency: Federal Election Commission

Date & Time: Friday, May 3, 2002 at 8:30 a.m., Saturday, May 4, 2002 at 9 a.m.

Place: Westin Westminster Hotel, 10600 Westminster Boulevard, Westminster, CO 80020.

Name: Federal Election Commission Election Administration Advisory Panel.

Status: The Advisory Panel Meeting is open to the public, dependent on available space.

In accordance with the provisions of the Federal Advisory Panel Committee Act (5 U.S.C. App. I) and Office of Management and Budget Circular A-63, as revised, the Federal Election Commission announces the 2002 Advisory Panel meeting.

Items To Be Discussed: Election Case Law: Lesson from the 2000 Election; Update on Office of Election Administration Projects in 2002; A Report from the Federal Voting Assistance Program; Reports from both the Election Crimes Branch and the Voting Section of the Civil Rights Division of the U.S. Department of Justice; State Vote Counting Laws and Procedures; 2002 Redistricting; Using Statewide Voter Registration databases.

Purpose of Meeting:

The Panel will present its views on problems in the administration of Federal elections, and formulate recommendations to the Federal Election Commission Office of Election Administration for its future program development.

Any member of the public may file a written statement with the Panel before, during, or after the meeting. To the extent that time permits, Panel Chair may allow public presentation or oral statements at the meeting.

Person To Contact for Information: Ms. Penelope Bonsall, Director, Office of Election Administration. Telephone: (202) 694-1095.

Mary W. Dove,
Secretary of the Commission.

[FR Doc. 02-9163 Filed 4-11-02; 10:43 am]

BILLING CODE 6715-01-M